SMALL BUSINESS ADMINISTRATION

[Declaration of Disaster #3558, Amdt. 2]

State of West Virginia

In accordance with a notice received from the Department of Homeland Security—Federal Emergency Management Agency, effective December 1, 2003, the above numbered declaration is hereby amended to include Harrison County as a disaster area due to damages caused by severe storms, flooding and landslides occurring on November 11, 2003, and continuing.

In addition, applications for economic injury loans from small businesses located in the contiguous county of Barbour in the State of West Virginia may be filed until the specified date at the previously designated location. All other counties contiguous to the above named primary county have been previously declared.

All other information remains the same, i.e., the deadline for filing applications for physical damage is January 20, 2004, and for economic injury the deadline is August 23, 2004.

(Catalog of Federal Domestic Assistance Program Nos. 59002 and 59008.)
Dated: December 2, 2003.
Herbert L. Mitchell,
Associate Administrator for Disaster Assistance.

[FR Doc. 03-30431 Filed 12-8-03; 8:45 am]

BILLING CODE 8025-01-P